DEPARTMENT OF THE INTERIOR

Office of the Secretary

California Desert District Advisory Council—Notice of Renewal

AGENCY: Bureau of Land Management (BLM), Interior.

ACTION: California Desert District Advisory Council—Notice of renewal.

SUMMARY: This notice is published in accordance with section 9(a)(2) of the Federal Advisory Committee Act of 1972 (Public Law 92-463). Notice is hereby given that the Secretary of the Interior has renewed the Bureau of Land Management's California Desert District Advisory Council.

The purpose of the Council is to provide counsel and advice to the BLM District Manager concerning planning and management of the public land resources within the BLM California Desert District and implementation of the comprehensive, long-range plan for the management, use, development, and protection of the public lands within the California Desert Conservation Area.

Certification Statement

I hereby certify that the renewal of the California Desert District Advisory Council is necessary and in the public interest in connection with the Secretary of the Interior's responsibilities to manage the lands, resources, and facilities administered by the Bureau of Land Management.

FOR FURTHER INFORMATION CONTACT: Melanie Wilson, Intergovernmental Affairs (640), Bureau of Land Management, 1620 L Street, NW., Room 406 LS, Washington, DC 20240, telephone (202) 452-0377.

Dated: December 11, 2000.
Bruce Babbitt,
Secretary of the Interior.

[FR Doc. 00-32488 Filed 12-20-00; 8:45 am]

BILLING CODE 4310-84-P